DEPARTMENT OF THE INTERIOR

National Park Service

[NPS-WASO-NAGPRA-NPS0034117; PPWOCRADN0-PCU00RP14.R50000]

Notice of Inventory Completion: University of New Hampshire, Durham, NH

AGENCY: National Park Service, Interior.

ACTION: Notice.

SUMMARY: The University of New Hampshire has completed an inventory of human remains and an associated funerary object in consultation with the appropriate Indian Tribes or Native Hawaiian organizations and has determined that there is a cultural affiliation between the human remains and associated funerary object and present-day Indian Tribes or Native Hawaiian organizations. Lineal descendants or representatives of any Indian Tribe or Native Hawaiian organization not identified in this notice that wish to request transfer of control of these human remains and this associated funerary object should submit a written request to the University of New Hampshire. If no additional requestors come forward, transfer of control of the human remains and this associated funerary object to the lineal descendants, Indian Tribes, or Native Hawaiian organizations stated in this notice may proceed.

DATES: Lineal descendants or representatives of any Indian Tribe or Native Hawaiian organization not identified in this notice that wish to request transfer of control of these human remains and this associated funerary object should submit a written request with information in support of the request to the University of New Hampshire at the address in this notice by August 1, 2022.

FOR FURTHER INFORMATION CONTACT: Dr. Lisa MacFarlane, University of New Hampshire, Department of English, Hamilton Smith Hall, 95 Main Street, Durham, NH 03824, telephone (603) 862-1313, email Lisa.MacFarlane@unh.edu.

SUPPLEMENTARY INFORMATION: Notice is here given in accordance with the Native American Graves Protection and Repatriation Act (NAGPRA), 25 U.S.C. 3003, of the completion of an inventory of human remains and an associated funerary object under the control of the University of New Hampshire, Durham, NH. The human remains and associated funerary object were removed from Adams Point in Durham, Strafford County, NH.

This notice is published as part of the National Park Service's administrative responsibilities under NAGPRA, 25 U.S.C. 3003(d)(3). The determinations in this notice are the sole responsibility of the museum, institution, or Federal agency that has control of the Native American human remains and associated funerary object. The National Park Service is not responsible for the determinations in this notice.

Consultation

A detailed assessment of the human remains was made by the University of New Hampshire professional staff in consultation with representatives of the Wampanoag Tribe of Gay Head (Aquinnah) and the following non-federally recognized Indian groups: Abenaki Nation of New Hampshire; Cowasuck Band of the Pennacook-Abenaki People; Ko'asek (Co'wasuck) Traditional Band of the Sovereign Abenaki Nation; and the Koasek (Cowasuck) Traditional Band of the Sovereign Abenaki Nation. In addition, the Mashpee Wampanoag Tribe (previously listed as Mashpee Wampanoag Indian Tribal Council, Inc.); Mohegan Tribe of Indians of Connecticut (previously listed as Mohegan Indian Tribe of Connecticut); Narragansett Indian Tribe; Passamaquoddy Tribe; Penobscot Nation (previously listed as Penobscot Tribe of Maine); Stockbridge Munsee Community, Wisconsin; and three non-federally recognized Indian groups—the Abenaki Nation of Missisquoi (St. Francis/Sokoki Band); Koasek of the Koas of the Abenaki Nation; and Nulhegan Band of the Coosuk Abenaki Nation—were invited to consult but did not participate. Hereafter, all the Indian Tribes and groups listed in this section are referred to as “The Consulted and Invited Tribes and Groups.”

History and Description of the Remains

Sometime in 1991, 1992, or 1994, human remains representing, at minimum, one individual were removed by archeologist Harold Hecker from Adams Point in Durham, Strafford County, NH. During 2019, when UNH reexamined every box in its collection, a tooth recorded as missing in an earlier UNH inventory was discovered. A petrous bone fragment was found in proximity to the tooth. Initially, it had been identified as faunal, but after in-depth research it was identified as human. The tooth and skull bone fragment most likely are from the same juvenile individual. The deciduous tooth and piece of skull (i.e., petrous bone) belong to a juvenile of unknown sex. No known individual was identified. The one associated funerary object is a whole Jack's reef corner notched point made of jasper, a non-local lithic material, which was found in close proximity to the two human skeletal elements.

Adams Point lies in the Great Bay Estuary, a tidally dominated system that starts at the Atlantic Ocean with the Piscataqua River. As the Piscataqua River runs inland, it splits at a neck of land called today “Dover Point.” From there, eastward, it leads to Little Bay, which tightens at a strait (Furber Strait) before opening south to the Great Bay, the broad inner bay of the whole system. Adams Point is a jut of land at this strait, surrounded to the southwest by Crommet Creek, which confluxes with Great Bay at Adams Point. During his work at the site, Dr. Hecker identified four precontact sites, all in close proximity to each other. They are NH 40-14, NH 40-48, NH 40-4, and NH 40-50. Since Hecker's work, archeology has experienced a major shift from site-based approaches to landscape-scale perspectives.

The human remains listed in this notice came from NH 40-14. The site on this striking landform is located at a convergence zone of multiple waterscapes. Based on the cultural materials recovered—no C14 dating was done—Dr. Hecker concluded that the site dated predominantly to the late Middle Woodland Period (ca. A.D. 600-1000) with a small early Late Woodland component (ca. A.D. 1000-1200). He concluded the site was a locale that hosted short term occupations in late spring/early summer. As the site is located at the confluence of waterways, Hecker suggested it might have been a trading location where multiple precontact indigenous communities gathered. Indeed, given its location, Adams Point was accessible to multiple historically recorded groups, such as the Pennacook, the Abenaki, the Massachuset, and the Wampanoag, either because of proximity of territorial boundaries, or during seasonal rounds. The associated funerary object made of jasper likely was quarried in Eastern Pennsylvania, although jasper outcrops do exist in Massachusetts. Its presence testifies to the movement of precontact indigenous peoples in the region across vast waterways and landscapes. In the post-contact colonial period, when violence swept through southern New England, such as during King Philip's War, these long-established networks of relations were relied on by indigenous peoples from Massachusetts seeking refuge in the Great Bay Estuary, including Wampanoag peoples.

Determinations Made by the University of New Hampshire

Officials of the University of New Hampshire have determined that:

• Pursuant to 25 U.S.C. 3001(9), the human remains described in this notice represent the physical remains of one individual of Native American ancestry.

• Pursuant to 25 U.S.C. 3001(3)(A), the one object described in this notice is reasonably believed to have been placed with or near individual human remains at the time of death or later as part of the death rite or ceremony.

• Pursuant to 25 U.S.C. 3001(2), there is a relationship of shared group identity that can be reasonably traced between the Native American human remains and associated funerary object and the Wampanoag Tribe of Gay Head (Aquinnah).

Additional Requestors and Disposition

Lineal descendants or representatives of any Indian Tribe or Native Hawaiian organization not identified in this notice that wish to request transfer of control of these human remains and associated funerary object should submit a written request with information in support of the request to Dr. Lisa MacFarlane, University of New Hampshire, Department of English, Hamilton Smith Hall, 95 Main Street, Durham, NH 03824, telephone (603) 862-1313, email Lisa.MacFarlane@unh.edu, by August 1, 2022. After that date, if no additional requestors have come forward, transfer of control of the human remains and associated funerary object to the Wampanoag Tribe of Gay Head (Aquinnah) may proceed.

The University of New Hampshire is responsible for notifying The Consulted and Invited Tribes and Groups that this notice has been published.

Dated: June 16, 2022.
Melanie O'Brien,
Manager, National NAGPRA Program.

[FR Doc. 2022-14093 Filed 6-30-22; 8:45 am]

BILLING CODE 4312-52-P